DEPARTMENT OF HOMELAND SECURITY

U.S. Citizenship and Immigration Services

[CIS No. 2768-24; DHS Docket No. USCIS-2022-0014]

RIN 1615-ZB96

Extension and Redesignation of Ethiopia for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Ethiopia for Temporary Protected Status (TPS) for 18 months, beginning on June 13, 2024, and ending on December 12, 2025. This extension allows existing TPS beneficiaries to retain TPS through December 12, 2025, if they otherwise continue to meet the eligibility requirements for TPS. Existing TPS beneficiaries who wish to extend their status through December 12, 2025, must re-register during the 60-day re-registration period described in this notice. The Secretary is also redesignating Ethiopia for TPS. The redesignation of Ethiopia allows additional Ethiopian nationals (and individuals having no nationality who last habitually resided in Ethiopia) who have been continuously residing in the United States since April 11, 2024, to apply for TPS for the first time during the initial registration period described under the redesignation information in this notice. In addition to demonstrating continuous residence in the United States since April 11, 2024, and meeting other eligibility criteria, initial applicants for TPS under this designation must demonstrate that they have been continuously physically present in the United States since June 13, 2024, the effective date of this redesignation of Ethiopia for TPS.

DATES: Extension and Redesignation of Designation of Ethiopia for TPS begins on June 13, 2024, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Ethiopia's TPS designation by selecting “Ethiopia” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at https://uscis.gov, or visit the USCIS Contact Center at https://www.uscis.gov/contactcenter.

• You can also find more information at local USCIS offices after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Registration Information

Extension of Designation of Ethiopia for TPS: The 18-month designation of Ethiopia for TPS begins on June 13, 2024, and will remain in effect for 18 months, ending on December 12, 2025. The extension impacts existing beneficiaries of TPS.

Re-registration: The 60-day re-registration period for existing beneficiaries runs from April 15, 2024 through June 14, 2024. (Note: It is important for re-registrants to timely re-register during the registration period and not to wait until their Employment Authorization Documents (EADs) expire, as delaying re-registration could result in gaps in their employment authorization documentation.)

Redesignation of Ethiopia for TPS: The 18-month redesignation of Ethiopia for TPS begins on June 13, 2024, and will remain in effect for 18 months, ending on December 12, 2025. The redesignation impacts potential first-time applicants and others who do not currently have TPS.

First-time Registration: The initial registration period for new applicants under the Ethiopia TPS redesignation begins on April 15, 2024 and will remain in effect through December 12, 2025.

Purpose of This Action (TPS)

Through this notice, DHS sets forth procedures necessary for nationals of Ethiopia (or individuals having no nationality who last habitually resided in Ethiopia) to (1) re-register for TPS and apply to renew their EAD with USCIS or (2) submit an initial registration application under the redesignation and apply for an EAD.

Re-registration is limited to individuals who have previously registered for TPS under the prior designation of Ethiopia and whose applications have been granted. If you do not re-register properly within the 60-day re-registration period, USCIS may withdraw your TPS following appropriate procedures. See 8 CFR 244.14.

For individuals who have already been granted TPS under Ethiopia's designation, the 60-day re-registration period runs from April 15, 2024, through June 14, 2024. USCIS will issue new EADs with a December 12, 2025, expiration date to eligible Ethiopian TPS beneficiaries who timely re-register and apply for EADs. Given the time frames involved with processing TPS re-registration applications, DHS recognizes that not all re-registrants may receive a new EAD before their current EAD expires. Accordingly, through this Federal Register notice, DHS automatically extends through June 12, 2025, the validity of EADs previously issued under the TPS designation of Ethiopia. As proof of continued employment authorization through June 12, 2025, TPS beneficiaries can show their EAD with the notation A-12 or C-19 under Category and a “Card Expires” date of June 12, 2024. This notice explains how TPS beneficiaries and their employers may determine if an EAD is automatically extended and how this affects the Form I-9, Employment Eligibility Verification, E-Verify, and USCIS Systematic Alien Verification for Entitlements (SAVE) processes.

Individuals who have an Application for Temporary Protected Status (Form I-821) or Application for Employment Authorization (Form I-765) that was still pending as of April 15, 2024, do not need to file either application again. If USCIS approves an individual's pending Form I-821, USCIS will grant the individual TPS through December 12, 2025. Similarly, if USCIS approves a pending TPS-related Form I-765, USCIS will issue the individual a new EAD that will be valid through the same date.

Under the redesignation, individuals who currently do not have TPS may submit an initial application during the initial registration period that runs from April 15, 2024, through the full length of the redesignation period ending December 12, 2025. In addition to demonstrating continuous residence in the United States since April 11, 2024, and meeting other eligibility criteria, initial applicants for TPS under this redesignation must demonstrate that they have been continuously physically present in the United States since June 13, 2024,¹ the effective date of this redesignation of Ethiopia, before USCIS may grant them TPS. DHS estimates that approximately 12,800 individuals may become newly eligible for TPS under the redesignation of Ethiopia.

¹ The “continuous physical presence” date is the effective date of the most recent TPS designation of the country, which is either the publication date of the designation announcement in the Federal Register or a later date established by the Secretary. The “continuous residence” date is any date established by the Secretary when a country is designated (or sometimes redesignated) for TPS. See INA sec. 244(b)(2)(A) (effective date of designation); 244(c)(1)(A)(i-ii) (continuous residence and continuous physical presence date requirements); 8 U.S.C. 1254a(b)(2)(A); 1254a(c)(1)(A)(i-ii).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date their TPS terminates.

When was Ethiopia designated for TPS?

Ethiopia was initially designated on December 12, 2022, on the basis of ongoing armed conflict and extraordinary and temporary conditions in Ethiopia that prevented nationals of Ethiopia from returning in safety. See Designation of Ethiopia for Temporary Protected Status, 87 FR 76074 (December 12, 2022).

What authority does the Secretary have to extend the designation of Ethiopia for TPS?

Section 244(b)(1) of the INA, 8 U.S.C. 1254a(b)(1), authorizes the Secretary, after consultation with appropriate agencies of the U.S. Government, to designate a foreign state (or part thereof) for TPS if the Secretary determines that certain country conditions exist.² The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

² INA section 244(b)(1) ascribes this power to the Attorney General. Congress transferred this authority from the Attorney General to the Secretary of Homeland Security. See Homeland Security Act of 2002, Pub. L. 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Ethiopia for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).³

³ The extension and redesignation of TPS for Ethiopia is one of several instances in which the Secretary and, before the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Ethiopia will be April 11, 2024. Initial applicants for TPS under this redesignation must also show they have been “continuously physically present” in the United States since June 13, 2024, which is the effective date of the Secretary's redesignation of Ethiopia. See INA sec. 244(c)(1)(A)(i), 8 U.S.C. 1254a(c)(1)(A)(i). For each initial TPS application filed under the redesignation, USCIS cannot make the final determination of whether the applicant has met the “continuous physical presence” requirement until June 13, 2024, the effective date of this redesignation for Ethiopia. USCIS, however, will issue employment authorization documentation, as appropriate, during the registration period in accordance with 8 CFR 244.5(b).

Why is the Secretary extending the TPS designation for Ethiopia and simultaneously redesignating Ethiopia for TPS through December 12, 2025?

DHS has reviewed country conditions in Ethiopia. Based on the review, including input received from Department of State (DoS) and other U.S. Government agencies, the Secretary has determined that an 18-month TPS extension is warranted because ongoing armed conflict and extraordinary and temporary conditions supporting Ethiopia's TPS designation remain. The Secretary has further determined that redesignating Ethiopia for TPS under INA section 244(b)(3)(C), 8 U.S.C. 1254a(b)(3)(C) is warranted and is changing the continuous residence and continuous physical presence dates that applicants must meet to be eligible for TPS.

Overview

Ethiopia continues to face internal armed conflict in Amhara and violence in multiple other regions of the country.⁴ Human rights abuses by armed actors are prevalent, and civilians are facing indiscriminate attacks.⁵ Droughts, floods, and disease outbreaks have put millions of people's lives and livelihoods at risk.⁶ These overlapping humanitarian crises have resulted in “ongoing high and urgent humanitarian needs.” ⁷

⁴ Center for Preventative Action, Conflict in Ethiopia, last updated Dec. 19, 2023, available at: https://www.cfr.org/global-conflict-tracker/conflict/conflict-ethiopia (last visited Dec. 22, 2023).

⁵ See UN Human Rights Council, The acute risk of further atrocity crimes in Ethiopia: an analysis, October 3, 2023, 2, https://www.ohchr.org/sites/default/files/documents/hrbodies/hrcouncil/chreetiopia/A-HRC-54-CRP-2.pdf.

⁶ UNHCR, Ethiopia: Protection Cluster National Strategy 2023-2023, Protection Cluster, Nov. 3, 2023, 4, available at https://reliefweb.int/report/ethiopia/ethiopia-protection-cluster-national-strategy-2023-2025 (last visited Dec. 18, 2023).

⁷ Id.

Armed Conflict

There is an ongoing armed conflict in Amhara between the Ethiopian National Defense Force (ENDF) and the Fano militia, a non-state militia in Amhara.⁸ In April 2023, the government of Ethiopia declared that all regional security forces would be incorporated into the national security services, and this decision caused violent backlash.⁹ The rising insecurity and violence led the Ethiopian government to declare a state of emergency in August 2023.¹⁰ Civilian casualties have been reported. In November 2023, there were multiple drone strikes that killed 26 civilians and injured 14 in their homes, at a primary school, and a bus station.¹¹

⁸ Reuters, Ethiopian military clashes with militia in Amhara, injuries reported, Aug. 2, 2023, available at https://www.reuters.com/world/africa/ethiopian-military-clashes-with-militia-amhara-residents-say-2023-08-02/ (last visited Dec. 18, 2023).

⁹ Id.

¹⁰ UN Human Rights Council, The acute risk of further atrocity crimes in Ethiopia: an analysis, Oct. 3, 2023, 2, available at https://www.ohchr.org/sites/default/files/documents/hrbodies/hrcouncil/chreetiopia/A-HRC-54-CRP-2.pdf.

¹¹ OHCHR, Ethiopia: Violence in Amhara region, Nov. 17, 2023, available at https://www.ohchr.org/en/statements/2023/11/ethiopia-violence-amhara-region (last visited Dec. 19, 2023).

Violence and Human Rights

Violent clashes between the Ethiopian federal government and the Oromo Liberation Front-Shane (also known as the Oromo Liberation Army) increased in May 2023 in Oromia following failed peace talks, rivaling the levels of violence in 2022.¹² In regions impacted by inter-communal violence, like Oromia, Northern Ethiopia, and along the border between the Somali and Afar regions, state forces and non-state armed groups are reportedly attacking civilians.¹³ Security forces are also reportedly committing extrajudicial killings and using excessive force.¹⁴

¹² ACLED-Ethiopia Peace Observatory, EPO May 2023 Monthly: Violence Returns to Oromia Despite Attempted Peace Talks, June 22, 2023, https://epo.acleddata.com/2023/06/22/epo-may-2023-monthly-violence-returns-to-oromia-despite-attempted-peace-talks/ (last visited on Dec. 18, 2023).

¹³ UNHCR, Ethiopia: Protection Cluster National Strategy 2023-2023, Protection Cluster, Nov. 3, 2023, 5, available at https://reliefweb.int/report/ethiopia/ethiopia-protection-cluster-national-strategy-2023-2025 (last visited Dec. 18, 2023).

¹⁴ Id.

In Tigray, conditions remain fragile even after the Ethiopian federal government and the Tigray People's Liberation Front (TPLF) signed the Cessation of Hostilities Agreement (COHA) in November 2022.¹⁵ Although the number of atrocities in Tigray has decreased since the signing of the COHA, armed actors, such as Eritrean security forces, Amhara forces, and Fano militia, continue to abuse human rights.¹⁶ Incidences of sexual violence, predominately perpetrated by Eritrean or Ethiopian armed forces, have been documented in Tigray.¹⁷ The International Commission of Human Rights Experts for Ethiopia estimates there were at least 10,000 survivors of conflict-related sexual violence (CRSV) in Tigray alone who sought support between November 2020 and June 2023.¹⁸ Other reported abuses against civilians include ethnic cleansing of Tigrayan civilians from Western Tigray by members of Amhara forces.¹⁹

¹⁵ UN Human Rights Council, The acute risk of further atrocity crimes in Ethiopia: an analysis, Oct. 3, 2023, 2, available at https://www.ohchr.org/sites/default/files/documents/hrbodies/hrcouncil/chreetiopia/A-HRC-54-CRP-2.pdf.

¹⁶ UN Human Rights Council, The acute risk of further atrocity crimes in Ethiopia: an analysis, Oct. 3, 2023, 2, available at https://www.ohchr.org/sites/default/files/documents/hrbodies/hrcouncil/chreetiopia/A-HRC-54-CRP-2.pdf; UNHCR, Ethiopia: Protection Cluster National Strategy 2023-2023, Protection Cluster, Nov. 3, 2023, 4, available at https://reliefweb.int/report/ethiopia/ethiopia-protection-cluster-national-strategy-2023-2025 (last visited Dec. 18, 2023).

¹⁷ Physicians for Human Rights, Broken Promises: Conflict-Related Sexual Violence Before and After the Cessation of Hostilities Agreement in Tigray, Ethiopia, Aug. 24, 2023, available at https://phr.org/our-work/resources/medical-records-sexual-violence-tigray-ethiopia/ (last visited Dec. 18, 2023).

¹⁸ UN Human Rights Council, Comprehensive investigative findings and legal determinations, Oct. 13, 2023, 25-26, available at https://www.ohchr.org/sites/default/files/documents/hrbodies/hrcouncil/chreetiopia/a-hrc-54-crp-3.pdf.

¹⁹ Human Rights Watch, Ethiopia: Ethnic Cleansing Persists Under Tigray Truce, June 1, 2023, available at: https://www.hrw.org/news/2023/06/01/ethiopia-ethnic-cleansing-persists-under-tigray-truce (last visited Jan. 29, 2024).

Environmental Disasters

Severe drought, which began in late 2020, expanded in 2023, mainly due to five consecutive weak-to-failed rainy seasons.²⁰ In the Amhara and Tigray regions, approximately 5 million people have been negatively affected by the drought-like conditions.²¹ Millions of Ethiopians who rely on livestock have had their livelihoods damaged.²² As such, food insecurity has increased, and hundreds of thousands of people have been displaced as they search for new places to survive.²³ Furthermore, a cholera outbreak has affected these drought-stricken areas.²⁴

²⁰ UNHCR, Ethiopia: Protection Cluster National Strategy 2023-2023, Protection Cluster, Nov. 3, 2023, 4, available at https://reliefweb.int/report/ethiopia/ethiopia-protection-cluster-national-strategy-2023-2025 (last visited Dec. 18, 2023).

²¹ UN Population Fund, UNFPA Ethiopia Humanitarian Response Situation Report—October 2023, Nov. 30, 2023, https://reliefweb.int/report/ethiopia/unfpa-ethiopia-humanitarian-response-situation-report-october-2023 (last visited Dec. 19, 2023).

²² UNOCHA, Humanitarian Response Plan Ethiopia, Feb. 28, 2023, 4, available at https://humanitarianaction.info/plan/1128?bs=eyJibG9jay05YTI0NGYzYy1jZmQ4LTRjZTAtOTRmOC0yOWYzZjIxOGRmM2YiOnsidGFyZ2V0IjowfX0%3D (last visited on Dec. 18, 2023).

²³ Id.

²⁴ UNOCHA, Ethiopia Situation Report, Dec. 1, 2023, available at https://reliefweb.int/report/ethiopia/ethiopia-situation-report-1-dec-2023 (last visited Feb. 28, 2024).

Flooding has also caused significant harm to the lives of many Ethiopians. Between October and November 2023, flooding and mudslides from heavy rainfall and river overflows affected an estimated 1.5 million people, mainly in the Somali, Oromia, Afar, South Ethiopia, and Gambella regions of the country.²⁵ The Somali region alone accounted for over one million of the flood-affected people.²⁶ Moreover, the Oromia and Southern Ethiopia regions faced significant displacement, damaged farmland, and adversely impacted social infrastructures as a result of the flooding.²⁷ Health facilities have also been damaged by the floods, and thus these populations do not have access to basic health services.²⁸

²⁵ Id.

²⁶ Id.

²⁷ UNOCHA, Ethiopia: Floods, Flash Update 32, Nov. 16, 2023, 4-5, https://reliefweb.int/report/ethiopia/ethiopia-floods-flash-update-2-15-november-2023 (last visited on Dec. 20, 2023).

²⁸ Health Cluster, WHO, Ethiopia Health Cluster Bulletin, Dec. 1, 2023, 1, https://reliefweb.int/report/ethiopia/ethiopia-health-cluster-bulletin-november-2023 (last visited on Dec. 19, 2023).

Internal Displacement

Ethiopia continues to face massive displacement of persons for numerous reasons, including violence and climate events.²⁹ As of June 2023, there were an estimated 4.3 million internally displaced persons (IDPs) in Ethiopia.³⁰ Around 2.9 million of those IDPs are a result of conflict—a 57% increase since January 31, 2023.³¹ IDPs due to droughts totaled 810,855 as of June 2023, and people displaced by floods totaled 613,000 in November 2023.³²

²⁹ IOM, Ethiopia National Displacement Report 16—Site Assessment Round 33 and Village Assessment survey Round 16: November 2022-June 2023, Aug. 22, 2023, available at: Ethiopia National Displacement Report 16—Site Assessment Round 33 and Village Assessment Survey Round 16: November 2022-June 2023—Ethiopia | ReliefWeb (last visited Jan. 29, 2024).

³⁰ Id.

³¹ UNOCHA, Ethiopia, available at https://m.reliefweb.int/country/87/eth?figures-display=all (last visited Dec. 19, 2023).

³² Id.

Food Insecurity

Throughout 2023, food insecurity continued to be a major concern in Ethiopia due to multiple challenges, including ongoing conflict, drought-like conditions, and a pause in international food assistance due to food aid diversion and corruption.³³ Nearly 20.1 million people are in need of food assistance and 7.4 million women and children are malnourished.³⁴ 3.5 million people in Amhara are in need of assistance because the ongoing insecurity in the Amhara region has disrupted farming activities.³⁵ International donors suspended food aid distributions in June 2023 due to reports of large-scale theft of food aid allegedly perpetrated by federal and regional entities in Ethiopia.³⁶ Food aid to Ethiopia resumed in December 2023 after the government of Ethiopia agreed to substantial reforms of the food assistance structure.³⁷

³³ Associated Press, U.S. will resume food aid to millions in Ethiopia after monthslong pause over massive corruption, Nov. 15, 2023, available at: https://www.pbs.org/newshour/world/u-s-will-resume-food-aid-to-millions-in-ethiopia-after-monthslong-pause-over-massive-corruption#:~:text=USAID%20and%20the%20U.N.%E2%80%99s%20World%20Food%20Program%20suspended,country%20for%20interrupting%20their%20oversight%20of%20aid%20delivery (last visited Dec. 19, 2023); World Food Programme, WFP Ethiopia Country Brief, September 2023, available at https://docs.wfp.org/api/documents/WFP-0000154798/download/?_ga=2.168713697.1310415555.1702745002-257522247.1691073788 (last visited Dec. 16, 2023).

³⁴ UN World Food Programme, Ethiopia, available at: https://www.wfp.org/countries/ethiopia (last visited Dec. 16, 2023).

³⁵ UN Population Fund, Ethiopia Humanitarian Response Situation Report—October 2023, Nov. 30, 2023, 1, https://ethiopia.unfpa.org/en/resources/unfpa-ethiopia-humanitarian-situation-reportoctober-2023 (last visited on Dec. 19, 2023).

³⁶ Reuters, UN agency joins US in suspending food aid to Ethiopia after diversions, June 9, 2023, available at https://www.reuters.com/world/africa/wfp-suspends-food-aid-ethiopia-after-diversions-2023-06-09/ (last visited Dec. 22, 2023).

³⁷ USAID, USAID Resumes Food Assistance for People Across Ethiopia Following Implementation of Comprehensive Reforms, Nov. 14, 2023, available at https://www.usaid.gov/news-information/press-releases/nov-14-2023-usaid-resumes-food-assistance-people-across-ethiopia-following-implementation-comprehensive-reforms (last visited Dec. 18, 2023).

Communicable Diseases Outbreaks

Ethiopia faced four outbreaks of communicable diseases in 2023: cholera, measles, malaria, and dengue.³⁸ Cholera, malaria, and measles continue to be problems in 2024.³⁹ Responding to these outbreaks has been difficult due to “[l]imited access to health services, medical supplies, WASH [Water, sanitation and hygiene] services, and trained health care workers[.]” ⁴⁰

³⁸ World Health Organization, Northern Ethiopia—Public Health Situation Analysis, Sept. 22, 2023, 2, https://reliefweb.int/report/ethiopia/northern-ethiopia-public-health-situation-analysis-phsa-25-august-2023 (last visited on Dec. 19, 2023).

³⁹ UNOCHA, Ethiopia Situation Report, last updated Feb. 16, 2024, available at https://reports.unocha.org/en/country/ethiopia (last visited Feb. 28, 2024).

⁴⁰ World Health Organization, Northern Ethiopia—Public Health Situation Analysis, Sept. 22, 2023, 2, https://reliefweb.int/report/ethiopia/northern-ethiopia-public-health-situation-analysis-phsa-25-august-2023 (last visited on Dec. 19, 2023).

The current cholera outbreak has been ongoing since August 2022 when the first case of cholera was reported, making this among the longest outbreaks ever in Ethiopia.⁴¹ In December 2023, the World Health Organization (WHO) reported that due to floods, cholera deaths increased by 12% in November when compared to October.⁴² As of early February 2024, 34,000 cholera cases had been reported, including 504 deaths.⁴³ While 7.1 million people have been vaccinated as of November 18, 2023, sustainable solutions to address root causes of cholera still need to be addressed.⁴⁴

⁴¹ ECHO, Ethiopia—Cholera outbreak, Sept. 6, 2023, available at https://reliefweb.int/report/ethiopia/ethiopia-cholera-outbreak-dg-echo-un-ocha-echo-daily-flash-06-september-2023 (last visited on Dec. 19, 2023).

⁴² Health Cluster, WHO, Ethiopia Health Cluster Bulletin, Dec. 1, 2023, 1, https://reliefweb.int/report/ethiopia/ethiopia-health-cluster-bulletin-november-2023 (last visited on Dec. 19, 2023).

⁴³ UNOCHA, Ethiopia Situation Report, last updated Feb. 16, 2024, available at https://reports.unocha.org/en/country/ethiopia (last visited Feb. 28, 2024).

⁴⁴ UNOCHA, Ethiopia Situation Report, Dec. 1, 2023, available at https://reliefweb.int/report/ethiopia/ethiopia-situation-report-1-dec-2023 (last visited Feb. 28, 2024).

A measles outbreak, which began in August 2021, is active in 71 districts.⁴⁵ In the first ten months of 2023, there were nearly 20,800 measles cases reported, including 159 deaths.⁴⁶ As of early February 2024, most new cases reported are from Oromia, Sidama, Central, and Southwest.⁴⁷

⁴⁵ UNOCHA, Ethiopia Situation Report, last updated Feb. 16, 2024, available at https://reports.unocha.org/en/country/ethiopia (last visited Feb. 28, 2024).

⁴⁶ UNOCHA, Ethiopia Situation Report, Dec. 1, 2023, available at https://reliefweb.int/report/ethiopia/ethiopia-situation-report-1-dec-2023 (last visited Feb. 28, 2024).

⁴⁷ UNOCHA, Ethiopia Situation Report, last updated Feb. 16, 2024, available at https://reports.unocha.org/en/country/ethiopia (last visited Feb. 28, 2024).

Mosquito-borne diseases are also affecting several regions in Ethiopia. In 2023, 4.1 million malaria cases were reported throughout Ethiopia.⁴⁸ In April 2023, a dengue fever outbreak began in the Afar region and subsequently spread to the Dire Dewa, Oromia, and Somali regions.⁴⁹ Cases increased from 6,238 as of late June 2023 to 10,165 as of early October 2023.⁵⁰

⁴⁸ Health Cluster, WHO, Ethiopia Health Cluster Bulletin, Feb. 1, 2024, 4, https://reliefweb.int/report/ethiopia/ethiopia-health-cluster-bulletin-november-2023 (last visited on Feb. 28, 2024).

⁴⁹ WHO, Weekly Bulletin on Outbreaks and other Emergencies, Nov. 7, 2023, https://reliefweb.int/report/ethiopia/weekly-bulletin-outbreaks-and-other-emergencies-week-41-09-october-15-october-2023-data-reported-1700-15-october-2023 (last visited Dec. 8, 2023).

⁵⁰ Health Cluster, WHO, Ethiopia Health Cluster Bulletin, Oct. 6, 2023, 1, available at https://reliefweb.int/report/ethiopia/ethiopia-health-cluster-bulletin-quarter-3-july-september-2023-6-october-2023 (last visited Dec. 19, 2023).

Based on this review and after consultation with appropriate U.S. Government agencies, the Secretary has determined that:

• The conditions supporting Ethiopia's designation for TPS continue to be met. See INA sec. 244(b)(3)(A) and (C), 8 U.S.C. 1254a(b)(3)(A) and (C).

• There continues to be an ongoing armed conflict in Ethiopia and, due to such conflict, requiring the return to Ethiopia of Ethiopian nationals (or individuals having no nationality who last habitually resided in Ethiopia) would pose a serious threat to their personal safety. See INA sec. 244(b)(1)(A), 8 U.S.C. 1254a(b)(1)(A).

• There continue to be extraordinary and temporary conditions in Ethiopia that prevent Ethiopian nationals (or individuals having no nationality who last habitually resided in Ethiopia) from returning to Ethiopia in safety, and it is not contrary to the national interest of the United States to permit Ethiopian TPS beneficiaries to remain in the United States temporarily. See INA sec. 244(b)(1)(C), 8 U.S.C. 1254a(b)(1)(C).

• The designation of Ethiopia for TPS should be extended for an 18-month period, beginning on June 13, 2024, and ending on December 12, 2025. See INA sec. 244(b)(3)(C), 8 U.S.C. 1254a(b)(3)(C).

• Due to the conditions described above, Ethiopia should be simultaneously extended and redesignated for TPS beginning on June 13, 2024, and ending on December 12, 2025. See INA sec. 244(b)(1)(A) and (C) and (b)(2), 8 U.S.C. 1254a(b)(1)(A) and (C) and (b)(2).

• For the redesignation, the Secretary has determined that TPS applicants must demonstrate that they have continuously resided in the United States since April 11, 2024.

• Initial TPS applicants under the redesignation must demonstrate that they have been continuously physically present in the United States since June 13, 2024, the effective date of the redesignation of Ethiopia for TPS.

• There are currently approximately 2,300 beneficiaries under Ethiopia's TPS designation who are eligible to re-register for TPS under the extension.

• It is estimated that approximately 12,800 additional individuals may be eligible for TPS under the redesignation of Ethiopia. This population includes Ethiopian nationals in the United States in nonimmigrant status or without immigration status.

Notice of the Designation of Ethiopia for TPS

By the authority vested in me as Secretary under INA section 244, 8 U.S.C. 1254a, I have determined, after consultation with the appropriate U.S. Government agencies, the statutory conditions supporting Ethiopia's designation for TPS on the basis of ongoing armed conflict and extraordinary and temporary conditions are met, and it is not contrary to the national interest of the United States to allow Ethiopian TPS beneficiaries to remain in the United States temporarily. See INA sec. 244(b)(1)(A) and (C), 8 U.S.C. 1254a(b)(1)(A) and (C). On the basis of this determination, I am simultaneously extending the existing designation of Ethiopia for TPS for 18 months, beginning on June 13, 2024, and ending on December 12, 2025, and redesignating Ethiopia for TPS for the same 18-month period. See INA sec. 244(b)(1)(A) and (C) and (b)(2); 8 U.S.C. 1254a(b)(1)(A) and (C), and (b)(2).

Alejandro N. Mayorkas,
Secretary, U.S. Department of Homeland Security.

Eligibility and Employment Authorization for TPS

Required Application Forms and Application Fees to Register or Re-Register for TPS

To register or re-register for TPS based on the designation of Ethiopia, you must submit a Form I-821. If you are submitting an initial TPS application, you must pay the application fee for Form I-821 (or request a fee waiver, which you may submit on Form I-912, Request for Fee Waiver). If you are filing an application to re-register for TPS, you do not need to pay the application fee. Whether you are registering as an initial applicant or re-registering, you are required to pay the biometric services fee. If you cannot pay the biometric services fee, you may ask USCIS to waive the fee. Please see additional information under the “Biometric Services Fee” section of this notice.

TPS beneficiaries are eligible for an Employment Authorization Document (EAD), which proves their authorization to work in the United States. You are not required to submit Form I-765 or have an EAD to be granted TPS, but see below for more information if you want an EAD to use as proof that you can work in the United States.

Individuals who have an Ethiopia TPS application (Form I-821) that was still pending as of April 15, 2024, do not need to file the application again. If USCIS approves an individual's Form I-821, USCIS will grant the individual TPS through December 12, 2025.

For more information on the application forms and fees for TPS, please visit the USCIS TPS web page at https://www.uscis.gov/tps. Fees for the Form I-821 and Form I-765 and the biometric services fee are also described in 8 CFR 106.2 and the fee waiver-related regulations in 8 CFR 106.3 (Apr. 1, 2024). In addition, USCIS Form G-1055, Fee Schedule, provides the current fees required for the Form I-821 and Form I-765 for both initial TPS applicants and existing TPS beneficiaries who are re-registering.

How can TPS Beneficiaries Obtain an Employment Authorization Document (EAD)?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form with their TPS application, or separately later, if their TPS application is still pending or has been approved.

Beneficiaries with an Ethiopia TPS-related Form I-765 that was still pending as of April 15, 2024 do not need to file the application again. If USCIS approves a pending TPS-related Form I-765, USCIS will issue the individual a new EAD that will be valid through December 12, 2025.

Refiling an Initial TPS Registration Application After Receiving a Denial of a Fee Waiver Request

If USCIS denies your fee waiver request, you can resubmit your TPS application. The fee waiver denial notice will contain specific instructions about resubmitting your application.

Filing Information

USCIS offers the option to applicants for TPS under Ethiopia's designation to file Form I-821 and related requests for EADs online or by mail. However, if you request a fee waiver, you must submit your application by mail. When filing a TPS application, you may request an EAD by submitting a completed Form I-765 with your Form I-821.

Online filing: Form I-821 and Form I-765 are available for concurrent filing online.⁵¹ To file these forms online, you must first create a USCIS online account.⁵²

⁵¹ Find information about online filing at “Forms Available to File Online,” https://www.uscis.gov/file-online/forms-available-to-file-online.

⁵² https://myaccount.uscis.gov/users/sign_up.

Mail filing: Mail your completed Form I-821; Form I-765, if applicable; Form I-912, if applicable; and supporting documentation to the proper address in Table 1—Mailing Addresses.

Table 1—Mailing Addresses
If you . . . | Mail to . . .
Are using the U.S. Postal Service (USPS) | USCIS, Attn: TPS Ethiopia, P.O. Box 8635, Chicago, IL 60680-8635.
Are using FedEx, UPS, or DHL deliveries | USCIS, Attn: TPS Ethiopia (Box 8635), 131 South Dearborn Street—3rd Floor, Chicago, IL 60603-5517.

If you were granted TPS by an immigration judge (IJ) or the Board of Immigration Appeals (BIA) and you wish to request an EAD, please file online or mail your Form I-765 to the appropriate address in Table 1. If you file online, please include the fee. If you file by mail, please include the fee or fee waiver request. When you request an EAD based on an IJ or BIA grant of TPS, please include with your application a copy of the order from the IJ or BIA granting you TPS. This will help us verify your grant of TPS and process your application.

Supporting Documents

The filing instructions for Form I-821 list all the documents you need to establish eligibility for TPS. You may also find information on the acceptable documentation and other requirements for applying (also called registering) for TPS on the USCIS website at https://www.uscis.gov/tps under “Ethiopia.”

Travel

TPS beneficiaries may also apply for and be granted travel authorization as a matter of discretion. You must file for travel authorization if you wish to travel outside of the United States. If USCIS grants travel authorization, it gives you permission to leave the United States and return during a specific period. To request travel authorization, you must file Form I-131, Application for Travel Document, available at https://www.uscis.gov/i-131. You may file Form I-131 together with your Form I-821 or separately. When you file Form I-131, you must:

• Select Item Number 1.d. in Part 2 on the Form I-131; and

• Submit the fee for Form I-131, or request a fee waiver, which you may submit on Form I-912.

If you are filing Form I-131 together with Form I-821, send your forms to the address listed in Table 1. If you are filing Form I-131 separately based on a pending or approved Form I-821, send your form to the address listed in Table 2 and include a copy of Form I-797 for your approved or pending Form I-821.

Table 2—Mailing Addresses
If you . . . | Mail to . . .
Filing Form I-131 together with Form I-821 | The address provided in Table 1.
Filing Form I-131 based on a pending or approved Form I-821, and you are using the U.S. Postal Service (USPS): You must include a copy of the Notice of Action (Form I-797C or I-797) showing USCIS accepted or approved your Form I-821. | USCIS, Attn: I-131 TPS, P.O. Box 660167, Dallas, TX 75266-0867.
Filing Form I-131 based on a pending or approved Form I-821, and you are using FedEx, UPS, or DHL: You must include a copy of the Notice of Action (Form I-797C or I-797) showing USCIS accepted or approved your Form I-821. | USCIS, Attn: I-131 TPS, 2501 S State Hwy., 121 Business, Ste. 400, Lewisville, TX 75067.

Biometric Services Fee for TPS

Biometrics (such as fingerprints) are required for all applicants, in addition to a biometric services fee. As previously stated, if you cannot pay the biometric services fee, you may request a fee waiver, which you may submit on Form I-912. For more information on the application forms and fees for TPS, please visit the USCIS TPS web page at https://www.uscis.gov/tps. USCIS may require you to visit an Application Support Center to submit your biometrics. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through June 12, 2025, through this Federal Register notice?

Yes. Regardless of your country of birth, if you currently have an Ethiopia TPS-based EAD with the notation A-12 or C-19 under Category and a “Card Expires” date of June 12, 2024, this Federal Register notice automatically extends your EAD through June 12, 2025. Although this Federal Register notice automatically extends your EAD through June 12, 2025, you must timely re-register for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in these lists. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information. If your EAD states A-12 or C-19 under Category and has a “Card Expires” date of June 12, 2024, this Federal Register notice extends it automatically, and you may choose to present your EAD to your employer as proof of identity and employment eligibility for Form I-9 through June 12, 2025, unless your TPS has been withdrawn or your request for TPS has been denied. Your country of birth noted on the EAD does not have to reflect the TPS-designated country of Ethiopia for you to be eligible for this extension.

What documentation may I present to my employer for Form I-9 if I am already employed but my current TPS-related EAD is set to expire?

Even though we have automatically extended your EAD, your employer is required by law to ask you about your continued employment authorization. Your employer may need to re-examine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information. You may show this Federal Register notice to your employer to explain what to do for Form I-9 and to show that USCIS has automatically extended your EAD through June 12, 2025, but you are not required to do so. The last day of the automatic EAD extension is June 12, 2025. Before you start work on June 13, 2025, your employer is required by law to reverify your employment authorization on Form I-9. By that time, you must present any document from List A or any document from List C on Form I-9 Lists of Acceptable Documents, or an acceptable List A or List C receipt described in these lists to reverify employment authorization.

Your employer may not specify which List A or List C document you must present and cannot reject an acceptable receipt.

If I have an EAD based on another immigration status, can I obtain a new TPS-based EAD?

Yes, if you are eligible for TPS, you can obtain a new TPS-based EAD, even if you already have an EAD or work authorization based on another immigration status. If you want to obtain a new TPS-based EAD valid through December 12, 2025, you must file Form I-765 and pay the associated fee (unless USCIS grants your fee waiver request).

Can my employer require that I provide any other documentation to complete Form I-9, such as evidence of my status, proof of my Ethiopian citizenship, or a Form I-797C showing that I registered for TPS?

No. When completing Form I-9, employers must accept any documentation you choose to present from the Form I-9 Lists of Acceptable Documents that reasonably appears to be genuine and that relates to you, or an acceptable List A, List B, or List C receipt. Employers may not request other documentation, such as proof of Ethiopian citizenship or proof of registration for TPS when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

When using an automatically extended EAD to complete Form I-9 for a new job before June 13, 2025:

1. For Section 1, you should:

a. Check “A noncitizen authorized to work until” and enter June 12, 2025, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A-12 or C-19 and has a “Card Expires” date of June 12, 2024;

b. Write in the document title;

c. Enter the issuing authority;

d. Provide the document number; and

e. Write June 12, 2025, as the expiration date.

Before the start of work on June 13, 2025, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A-12 or C-19 and has a “Card Expires” date of June 12, 2024. Your employer may not rely on the country of birth listed on the card to determine whether you are eligible for this extension.

If your employer determines that USCIS has automatically extended your EAD, your employer should update Section 2 of your previously completed Form I-9 as follows:

1. Write EAD EXT and June 12, 2025, as the last day of the automatic extension in the Additional Information field; and

2. Initial and date the correction.

Note: This is not considered a reverification. Employers do not reverify the employee until either the automatic extension has ended, or the employee presents a new document to show continued employment authorization, whichever is sooner. By June 13, 2025, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter June 12, 2025, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on June 13, 2025, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in these lists. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action, reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A-12 or C-19, even if your country of birth noted on the EAD does not reflect the TPS-designated country of Ethiopia;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept. Some state and local government agencies use SAVE to confirm the current immigration status of applicants for public benefits.

While SAVE can verify that an individual has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, https://www.uscis.gov/save/, has detailed information on how to make corrections or update your immigration record, make an appointment, or submit a written request to correct records.

[FR Doc. 2024-07643 Filed 4-12-24; 8:45 am]

BILLING CODE 9111-97-P